DEPARTMENT OF THE TREASURY

Office of the Comptroller of the Currency

[Docket ID OCC-OCC-2023-0014]

Mutual Savings Association Advisory Committee; Meeting

AGENCY: Office of the Comptroller of the Currency (OCC), Treasury.

ACTION: Notice of Federal Advisory Committee meeting.

SUMMARY: The OCC announces a meeting of the Mutual Savings Association Advisory Committee (MSAAC).

DATES: A public meeting of the MSAAC will be held on Tuesday, October 3, 2023, beginning at 8:30 a.m. Eastern Daylight Time (EDT). The meeting will be in person and virtual.

ADDRESSES: The OCC will host the October 3, 2023 meeting of the MSAAC at the OCC's offices at 400 7th Street SW, Washington, DC 20219 and virtually.

FOR FURTHER INFORMATION CONTACT: Michael R. Brickman, Deputy Comptroller for Specialty Supervision, (202) 649-5420, Office of the Comptroller of the Currency, Washington, DC 20219. If you are deaf, hard of hearing, or have a speech disability, please dial 7-1-1 to access telecommunications relay services. You also may access prior MSAAC meeting materials on the MSAAC page of the OCC's website.¹

¹ https://occ.gov/topics/supervision-and-examination/bank-management/mutual-savings-associations/mutual-savings-association-advisory-committee.html.

SUPPLEMENTARY INFORMATION: Under the authority of the Federal Advisory Committee Act (the Act), 5 U.S.C. 1001 et seq, and the regulations implementing the Act at 41 CFR part 102-3, the OCC is announcing that the MSAAC will convene a meeting on Tuesday, October 3, 2023. The meeting is open to the public and will begin at 8:30 a.m. EDT. The purpose of the meeting is for the MSAAC to advise the OCC on regulatory or other changes the OCC may make to ensure the health and viability of mutual savings associations. The agenda includes a discussion of current topics of interest to the industry.

Members of the public may submit written statements to the MSAAC. The OCC must receive written statements no later than 5:00 p.m. EDT on Thursday, September 28, 2023. Members of the public may submit written statements to MSAAC@occ.treas.gov.

Members of the public who plan to attend the meeting should contact the OCC by 5:00 p.m. EDT on Thursday, September 28, 2023, to inform the OCC of their desire to attend the meeting and whether they will attend in person or virtually, and to obtain information about participating in the meeting. Members of the public may contact the OCC via email at MSAAC@OCC.treas.gov or by telephone at (202) 649-5420. Attendees should provide their full name, email address, and organization, if any. For persons who are deaf, hard of hearing, or have a speech disability, please dial 7-1-1 to arrange telecommunications relay services for this meeting.

Michael J. Hsu,
Acting Comptroller of the Currency.

[FR Doc. 2023-19732 Filed 9-12-23; 8:45 am]

BILLING CODE P